DEPARTMENT OF THE INTERIOR

National Park Service

Notice of Intent to Repatriate Cultural Items in the Possession of the Peabody Museum of Archaeology and Ethnology, Harvard University, Cambridge, MA

AGENCY: National Park Service.

ACTION: Notice.

Notice is hereby given under the Native American Graves Protection and Repatriation Act, 43 CFR 10.10(a)(3), of the intent to repatriate cultural items in the possession of the Peabody Museum of Archaeology and Ethnology, Harvard University, Cambridge, MA that meet the definition of “unassociated funerary object” under Section 2 of the Act.

This notice is published as part of the National Park Service's administrative responsibilities under NAGPRA, 43 CFR 10.2(c). The determinations within this notice are the sole responsibility of the museum, institution, or Federal agency that has control of these cultural items. The National Park Service is not responsible for the determinations within this notice.

The two cultural items are an iron hatchet and an iron adze head.

In 1985, these cultural items were donated to the museum by William H. Claflin, Jr. At an unknown date, these cultural items were collected by General Crooks. Between 1878 and 1893, General Crooks sold these cultural items to William R. Morris. In 1930, Mr. Morris's widow sold the objects to William Claflin, Sr.

Museum records indicate that these cultural items are from a Pawnee grave. Museum documents and consultation with representatives of the Pawnee Nation of Oklahoma indicate that the recovery location was most likely the Elkhorn River in northeastern Nebraska. The style and material of the objects is consistent with objects dating to the 1800's.

Based on the specific cultural attribution in museum records, the probable 19th century date of the burial, and geographic location within the historical territory of the Pawnee Nation of Oklahoma, the objects are considered to be affiliated with the Pawnee Nation of Oklahoma.

Based on the above-mentioned information, officials of the Peabody Museum of Archaeology and Ethnology have determined that, pursuant to 43 CFR 10.2(d)(2)(ii), these two cultural items are reasonably believed to have been placed with or near individual human remains at the time of death or later as part of the death rite or ceremony and are believed, by a preponderance of the evidence, to have been removed from a specific burial site of an Native American individual. Officials of the Peabody Museum of Archaeology and Ethnology also have determined that, pursuant to 43 CFR 10.2(e), there is a relationship of shared group identity that can be reasonably traced between these items and the Pawnee Nation of Oklahoma. This notice has been sent to officials of the Pawnee Nation of Oklahoma. Representatives of any other Indian tribe that believes itself to be culturally affiliated with these objects should contact Barbara Isaac, Repatriation Corrdinator, Peabody Museum of Archaeology and Ethnology, 11 Divinity Avenue, Cambridge, MA 02138, telephone (617) 495-2254, before September 28, 2000. Repatriation of these objects to the Pawnee Nation of Oklahoma may begin after that date if no additional claimants come forward.

Dated: August 18, 2000.
John Robbins,
Assistant Director, Cultural Resources Stewardship and Partnerships.

[FR Doc. 00-21975 Filed 8-28-00; 8:45 am]

BILLING CODE 4310-70-F